DEPARTMENT OF THE INTERIOR

National Park Service

[NPS-WASO-NAGPRA-NPS0039818; PPWOCRADN0-PCU00RP14.R50000]

Notice of Intended Repatriation: U.S. Department of the Interior, National Park Service, Petrified Forest National Park, Petrified Forest, AZ

AGENCY: National Park Service, Interior.

ACTION: Notice.

SUMMARY: In accordance with the Native American Graves Protection and Repatriation Act (NAGPRA), the U.S. Department of the Interior, National Park Service, Petrified Forest National Park (PEFO) intends to repatriate certain cultural items that meet the definition of unassociated funerary objects that have a cultural affiliation with the Indian Tribes or Native Hawaiian organizations in this notice.

DATES: Repatriation of the cultural items in this notice may occur on or after May 2, 2025.

ADDRESSES: Superintendent, Petrified Forest National Park, 1 Park Road #2217, Petrified Forest, AZ 86028, telephone (928) 524-6228 Ext. 225, email PEFO_Superintendent@nps.gov.

SUPPLEMENTARY INFORMATION: This notice is published as part of the National Park Service's administrative responsibilities under NAGPRA. The determinations in this notice are the sole responsibility of the Superintendent, PEFO, and additional information on the determinations in this notice, including the results of consultation, can be found in the summary or related records.

Abstract of Information Available

A total of 630 cultural items have been requested for repatriation. The number of unassociated funerary objects are 376 mosaic pieces, two worked shell pieces, one abalone shell pendant, two shell pendant fragments, 10 bowls, 191 shell beads, one turquoise bead, one awl, one jar, 40 pottery sherds, and five shell bracelet fragments. In 1953, the items were removed from Site NA5065 in Apache County, AZ. The cultural items were removed from three burials by Fred Wendorf, as part of his doctoral research at Harvard University. Human remains were not removed from these burials. The items are in the physical custody of the Museum of Northern Arizona in Flagstaff, AZ. Archeological site context and types of funerary objects suggest that this site was occupied by ancestral Puebloan peoples. Ethnographic and archeological evidence, including burial orientation, body position, and the type and placement of the funerary objects, indicates that the mortuary practices of these ancestral Puebloan peoples correspond closely with those of the Hopi Tribe of Arizona and the Zuni Tribe of the Zuni Reservation, New Mexico.

Determinations

PEFO has determined that:

• The 630 unassociated funerary objects described in this notice are reasonably believed to have been placed intentionally with or near individual human remains, and are connected, either at the time of death or later as part of the death rite or ceremony of a Native American culture according to Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Hopi Tribe of Arizona and the Zuni Tribe of the Zuni Reservation, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 2, 2025. If competing requests for repatriation are received, PEFO must determine the most appropriate requestor prior to repatriation. Requests for joint repatriation of the cultural items are considered a single request and not competing requests. PEFO is responsible for sending a copy of this notice to the Indian Tribes and Native Hawaiian organizations identified in this notice and to any other consulting parties.

Authority: Native American Graves Protection and Repatriation Act, 25 U.S.C. 3004 and the implementing regulations, 43 CFR 10.9.

Dated: March 21, 2025.
Melanie O'Brien,
Manager, National NAGPRA Program.

[FR Doc. 2025-05613 Filed 4-1-25; 8:45 am]

BILLING CODE 4312-52-P